DEPARTMENT OF COMMERCE

Bureau of Export Administration

National Defense Stockpile Market Impact Committee Request for Public Comments

AGENCY: Office of Strategic Industries and Economic Security, Bureau of Export Administration, Department of Commerce.

ACTION: Notice of request for public comment on the potential market impact of proposed revisions to disposals of excess commodities currently held in the National Defense Stockpile under the Fiscal Year 2002 Annual Material Plan (AMP), and proposed commodity disposals under the Fiscal Year 2003 AMP.

SUMMARY: This notice is to advise the public that the National Defense Stockpile Market Impact Committee (co-chaired by the Departments of Commerce and State) is seeking public comment on the potential market impact of proposed disposals of excess materials from the National Defense Stockpile as set forth in Attachment 1 to this notice. The Fiscal Year 1993 National Defense Authorization Act requires this Committee to consult with representatives of producers, processors and consumers of the types of materials stored in the stockpile.

DATES: Comments must be received by November 26, 2001.

ADDRESSES: Written comments should be sent to Richard V. Meyers, Co-Chair, Stockpile Market Impact Committee, Office of Strategic Industries and Economic Security, Room 3876, U.S. Department of Commerce, 14th Street and Constitution Avenue, NW, Washington, DC 20230; fax (202) 482-5650. Comments submitted via e-mail will not be accepted.

FOR FURTHER INFORMATION CONTACT: Richard V. Meyers, Office of Strategic Industries and Economic Security, U.S. Department of Commerce, (202) 482-3634; or Terri L. Robl, Office of International Energy and Commodity Policy, U.S. Department of State, (202) 647-3423; co-chairs of the National Defense Stockpile Market Impact Committee.

SUPPLEMENTARY INFORMATION: Under the authority of the Strategic and Critical Materials Stock Piling Act of 1979, as amended, (50 U.S.C. 98 et seq.), the Department of Defense (DOD), as National Defense Stockpile Manager, maintains a stockpile of strategic and critical materials to supply the military, industrial, and essential civilian needs of the United States for national defense. Section 3314 of the Fiscal Year (FY) 1993 National Defense Authorization Act (hereinafter “NDAA”) (50 U.S.C. 98h-l) formally established a Market Impact Committee (the Committee) to “advise the National Defense Stockpile Manager on the projected domestic and foreign economic effects of all acquisitions and disposals of materials from the stockpile * * * .” The Committee must also balance market impact concerns with the statutory requirement to protect the Government against avoidable loss.

The Committee is comprised of representatives from the Departments of Commerce, State, Agriculture, Defense, Energy, Interior, Treasury, and the Federal Emergency Management Agency, and is co-chaired by the Departments of Commerce and State. The NDAA directs the Committee to “consult from time to time with representatives of producers, processors and consumers of the types of materials stored in the stockpile.”

Attachment 1 lists the current FY 2002 AMP quantities (previously approved by the Committee), proposed revisions to the FY 2002 AMP quantities for seven materials, and the proposed FY 2003 AMP. The Committee is seeking public comment on the potential market impact of the sale of these materials as proposed in the revised FY 2002 AMP and FY 2003 AMP.

The quantities listed in Attachment 1 are not sales target disposal quantities. They are only a statement of the proposed maximum disposal quantity of each listed material that may be sold in a particular fiscal year. The quantity of each material that will actually be offered for sale will depend on the market for the material at the time as well as on the quantity of each material approved for disposal by Congress.

The Committee requests that interested parties provide written comments, supporting data and documentation, and any other relevant information on the potential market impact of the sale of these commodities. Although comments in response to this Notice must be received by November 26, 2001 to ensure full consideration by the Committee, interested parties are encouraged to submit additional comments and supporting information at any time thereafter to keep the Committee informed as to the market impact of the sale of these commodities. Public comment is an important element of the Committee's market impact review process.

Anyone submitting business confidential information should clearly identify the business confidential portion of the submission and also provide a non-confidential submission that can be placed in the public file. The Committee will seek to protect such information to the extent permitted by law.

The records related to this Notice will be made accessible in accordance with the regulations published in part 4 of title 15 of the Code of Federal Regulations (15 CFR 4.1 et seq.). Specifically, the Bureau of Export Administration's FOIA reading room is located on its Web page, which can be found at http://www.bxa.doc.gov, and copies of the public comments received will be maintained at that location (see Freedom of Information Act (FOIA) heading). If requesters cannot access the web site, they may call (202) 482-2165 for assistance.

Dated: October 22, 2001.
James J. Jochum,
Assistant Secretary for Export Administration.

Attachment 1.—Proposed Revisions to FY 2002 Annual Materials Plan (AMP) and Proposed FY 2003 AMP
Material | Unit | Current FY 2002 quantity | Revised FY 2002 quantity | Revised FY02 notes | Proposed FY 2003 quantity | FY03 notes
Aluminum Oxide, Abrasive | ST | 6,000 |  |  | 6,000 |
Antimony | ST | 5,000 |  |  | 5,000 | 1
Bauxite, Metallurgical Jamaican | LDT | 2,000,000 |  |  | 1,540,000 | 1
Bauxite, Refractory | LCT | 5,000 | 43,000 | 1/3 | 43,000 | 1/3
Beryl Ore | ST | 4,000 |  |  | 3,000 | 1
Beryllium Metal | ST | 40 |  |  | 40 |
Beryllium Copper Master Alloy | ST | 2,200 |  |  | 1,000 | 1
Cadmium | LB | 1,200,000 |  |  | 1,200,000 |
Celestite | SDT | 3,600 |  |  | 3,600 |
Chromite, Chemical | SDT | 100,000 |  | 1 | 100,000 | 1
Chromite, Metallurgical | SDT | 100,000 |  | 1 | 100,000 | 1
Chromite, Refractory | SDT | 100,000 |  |  | 100,000 |
Chromium, Ferro | ST | 150,000 |  |  | 150,000 |
Chromium, Metal | ST | 500 |  |  | 500 |
Cobalt | LB Co | 6,000,000 |  |  | 6,000,000 |
Columbium Carbide Powder | LB Cb | 21,500 |  | 1 | 21,500 | 1
Columbium Concentrates | LB Cb | 560,000 |  |  | 560,000 |
Columbium Metal Ingots | LB Cb | 20,000 |  |  | 20,000 |
Diamond Stone | ct | 510,000 | 1,300,000 | 1 | 600,000 | 1
Fluorspar, Acid Grade | SDT | 12,000 |  | 1 | 12,000 | 1
Fluorspar, Metallurgical Grade | SDT | 60,000 |  |  | 60,000 | 1
Germanium | Kg | 8,000 |  |  | 8,000 |
Graphite | ST | 3,760 |  |  | 3,760 | 1
Iodine | LB | 1,000,000 |  |  | 1,000,000 |
Jewel Bearings | PC | 52,000,000 | 82,051,558 | 1/3 | 82,051,558 | 1/3
Kyanite | SDT | 150 |  | 1 | 150 | 1
Lead | ST | 60,000 |  |  | 60,000 |
Manganese, Battery Grade, Natural | SDT | 30,000 |  |  | 30,000 |
Manganese, Battery Grade, Synthetic | SDT | 3,011 |  | 1 | 3,011 | 1
Manganese, Chemical Grade | SDT | 40,000 |  |  | 40,000 |
Manganese, Ferro | ST | 75,000 |  |  | 75,000 |
Manganese, Metal, Electrolytic | ST | 2,000 |  |  | 2,000 |
Manganese, Metallurgical Grade | SDT | 250,000 |  |  | 250,000 |
Mica, All | LB | 4,000,000 | 8,500,000 | 1/4 | 8,500,000 | 1
Palladium | Tr Oz | 600,000 |  |  | 250,000 | 1
Platinum | Tr Oz | 95,000 | 140,000 |  | 30,000 | 1
Platinum—Iridium | Tr Oz | 0 | 6,000 | 3 | 6,000 | 3
Quartz crystals | Lb | 0 | 216,648 | 1/3 | 216,648 | 1/3
Quinidine | OZ | 750,000 |  |  | 750,000 |
Rubber | LT | 75,000 |  | 1 | 70,000 | 1
Sebacic Acid | LB | 1,000,000 |  |  | 600,000 |
Silver (Coins) | Tr Oz | 5,000,000 | 8,000,000 | 1 | 5,000,000 | 1
Talc | ST | 2,000 |  | 1 | 2,000 | 1
Tantalum Carbide Powder | LB Ta | 4,000 |  |  | 4,000 |
Tantalum Metal Ingots | LB Ta | 40,000 |  |  | 40,000 |
Tantalum Metal Powder | LB Ta | 50,000 |  | 1 | 50,000 | 1
Tantalum Minerals | LB Ta | 500,000 |  |  | 500,000 |
Tantalum Oxide | LB Ta | 20,000 |  |  | 20,000 |
Thorium | LB | 7,093,464 |  | 1/2 | 7,095,065 | 1/2
Tin | MT | 12,000 |  |  | 12,000 |
Titanium Sponge | ST | 5,000 | 7,000 | 4 | 7,000 |
Tungsten Ferro | LB W | 300,000 |  |  | 300,000 |
Tungsten Metal Powder | LB W | 300,000 |  |  | 300,000 |
Tungsten Ores & Concentrates | LB W | 4,000,000 |  |  | 4,000,000 |
VTE, Chestnut | LT | 250 |  | 1 | 250 | 1
VTE, Quebracho | LT | 50,000 |  |  | 50,000 |
VTE, Wattle | LT | 6,500 |  | 1 | 6,500 | 1
Zinc | ST | 50,000 |  |  | 50,000 |
Notes:
1. Actual quantity will be limited to remaining sales authority or inventory.
2. The radioactive nature of this material may restrict sales or disposal options. Efforts are underway to determine the environmentally and economically feasible disposition of the material.
3. Pending Congressional authority.
4. Previously approved by the Market Impact Committee. Revision in process for current FY 2002.

[FR Doc. 01-26910 Filed 10-24-01; 8:45 am]

BILLING CODE 3510-33-P